DEPARTMENT OF JUSTICE

Antitrust Division

Notice Pursuant to the National Cooperative Research and Production Act of 1993—Industrial Truck Standards Development Foundation, Inc.

Notice is hereby given that, on November 23, 2005, pursuant to Section 6(a) of the National Cooperative Research and Production Act of 1993, 15 U.S.C. 4301 et seq. (“the Act”), Industrial Truck Standards Development Foundation, Inc. (“ITSDF”), has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Industrial Truck Standards Development Foundation, Inc., Washington, DC. The nature and scope of ITSDF's standards development activities are: To develop, adopt, amend, publish and distribute voluntary national consensus standards for industrial trucks, including forklift trucks, and related components, attachments and equipment.

Dorothy B. Fountain,
Deputy Director of Operations, Antitrust Division.

[FR Doc. 05-24332 Filed 12-21-05; 8:45 am]

BILLING CODE 4410-11-M